DEPARTMENT OF ENERGY

Federal Energy Regulatory Commission

Combined Notice of Filings

Take notice that the Commission has received the following Natural Gas Pipeline Rate and Refund Report filings:

Filings Instituting Proceedings

Docket Numbers: RP12-31-000.

Applicants: Wyoming Interstate Company, L.L.C.

Description: Operational Purchases and Sales Report for the twelve month period ended June 30, 2011 of Wyoming Interstate Company, L.L.C.

Filed Date: 10/21/2011.

Accession Number: 20111021-5066.

Comment Date: 5 p.m. Eastern Time on Wednesday, November 02, 2011.

Docket Numbers: RP12-32-000.

Applicants: Guardian Pipeline, L.L.C.

Description: Guardian Pipeline, L.L.C. submits tariff filing per 154.204: PAL (Chevron) to be effective 10/25/2011.

Filed Date: 10/21/2011.

Accession Number: 20111021-5072.

Comment Date: 5 p.m. Eastern Time on Wednesday, November 02, 2011.

Docket Numbers: RP12-33-000.

Applicants: Texas Eastern Transmission, LP.

Description: Texas Eastern Transmission, LP submits tariff filing per 154.204: ConocoPhillips TEMAX Agreements to be effective 11/1/2011.

Filed Date: 10/21/2011.

Accession Number: 20111021-5074.

Comment Date: 5 p.m. Eastern Time on Wednesday, November 02, 2011.

Docket Numbers: RP12-34-000.

Applicants: Trailblazer Pipeline Company LLC.

Description: Penalty Revenue Crediting Report of Trailblazer Pipeline Company LLC.

Filed Date: 10/21/2011.

Accession Number: 20111021-5083.

Comment Date: 5 p.m. Eastern Time on Wednesday, November 02, 2011.

Docket Numbers: RP12-35-000

Applicants: Algonquin Gas Transmission, LLC.

Description: Algonquin Gas Transmission, LLC submits tariff filing per 154.204: KeySpan 2011-11-01 release to BG Energy to be effective 11/1/2011.

Filed Date: 10/24/2011.

Accession Number: 20111024-5029.

Comment Date: 5 p.m. Eastern Time on Monday, November 07, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-2593-001.

Applicants: Energy West Development, Inc.

Description: Energy West Development, Inc. submits tariff filing per 154.205(b): EWD ACA Filing to be effective 10/1/2011.

Filed Date: 10/21/2011.

Accession Number: 20111021-5119.

Comment Date: 5 p.m. Eastern Time on Friday, October 28, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 24, 2011.
Nathaniel J. Davis, Sr.,
Deputy Secretary.

[FR Doc. 2011-28001 Filed 10-28-11; 8:45 am]

BILLING CODE 6717-01-P